DEPARTMENT OF LABOR

Employment and Training Administration

[TA-W-72,711]

Wire Products Company, Inc., Including Workers Whose Unemployment Insurance (UI) Wages Are Paid Through Globe Pipe Hanger Products, Inc., Cleveland, OH; Amended Certification Regarding Eligibility To Apply for Worker Adjustment Assistance

In accordance with Section 223 of the Trade Act of 1974, as amended (“Act”), 19 U.S.C. 2273, the Department of Labor issued a Certification of Eligibility to Apply for Worker Adjustment Assistance on May 14, 2010, applicable to workers of Wire Products Company, Inc., Cleveland, Ohio. The Department's Notice of determination was published in the Federal Register on May 28, 2010 (75 FR 30067).

At the request of a company official, the Department reviewed the certification for workers of the subject firm. The workers are engaged in the production of wires, springs and stampings for industrial customers.

New information shows that workers from Globe Pipe Hanger Products, Inc. were employed on-site and in conjunction with its sister firm, Wire Products Company, Inc. Production is vertically integrated and both entities are experiencing layoffs.

Information also shows that workers separated from employment at the subject firm had their wages reported under a separate unemployment insurance (UI) tax account under the name Globe Pipe Hanger Products, Inc.

Based on these findings, the Department is amending this certification to include workers of Globe Pipe Hanger Products, Inc., working on-site at the Cleveland, Ohio location of the subject firm.

The intent of the Department's certification is to include all workers employed at Wire Products Company, Inc., Cleveland, Ohio who were adversely affected by increased imports of wires, springs and stampings for industrial customers.

The amended notice applicable to TA-W-72,711 is hereby issued as follows:

All workers of Wire Products Company, Inc., including workers whose unemployment insurance (UI) wages are paid through Globe Pipe Hanger Products, Inc., Cleveland, Ohio, who became totally or partially separated from employment on or after October 27, 2008, through May 14, 2012, and all workers in the group threatened with total or partial separation from employment on the date of certification through May 14, 2012, are eligible to apply for adjustment assistance under Chapter 2 of Title II of the Trade Act of 1974, as amended.

Signed at Washington, DC, this 13th day of July 2010.
Del Min Amy Chen,
Certifying Officer, Division of Trade Adjustment Assistance.

[FR Doc. 2010-18189 Filed 7-23-10; 8:45 am]

BILLING CODE 4510-FN-P